DEPARTMENT OF HOUSING AND URBAN DEVELOPMENT

[Docket No. 5600-FA-43]

Announcement of Funding Awards Capital Fund Emergency Safety and Security Grants Fiscal Year 2015

AGENCY: Office of the Assistant Secretary for Public and Indian Housing, HUD.

ACTION: Announcement of funding awards.

SUMMARY: In accordance with Section 102(a)(4)(C) of the Department of Housing and Urban Development Reform Act of 1989, this announcement notifies the public of funding decisions made by the Department. The public was notified of the availability of the Emergency Safety and Security funds with PIH Notice 2014-09 (Notice), which was issued May 12, 2014. Additionally, Public Housing Authorities (PHAs) were notified of funds availability via electronic mail and a posting to the HUD Web site. PHAs were funded in accordance with the terms of the Notice. This announcement contains the consolidated names and addresses of this year's award recipients under the Capital Fund Emergency Safety and Security grant program.

FOR FURTHER INFORMATION CONTACT: For questions concerning the Emergency Safety and Security awards, contact Ivan Pour, Director, Office of Capital Improvements, Office of Public Housing, Department of Housing and Urban Development, 451 7th Street SW., Room 4130, Washington, DC 20410, telephone (202) 708-1640. Hearing or speech-impaired individuals may access this number via TTY by calling the toll-free Federal Relay Service at (800) 877-8339.

SUPPLEMENTARY INFORMATION: The Capital Fund Emergency Safety and Security program provides grants to PHAs for physical safety and security measures necessary to address crime and drug-related emergencies. More specifically, in accordance with Section 9 of the United States Housing Act of 1937 (42 U.S.C. 1437g) (1937 Act), and Public Law 113-235 (Consolidated and Further Continuing Appropriations Act, 2015) (FY 2015 appropriations), Congress appropriated funding to provide assistance to “public housing agencies for emergency capital needs including safety and security measures necessary to address crime and drug-related activity as well as needs resulting from unforeseen or unpreventable emergencies and natural disasters excluding Presidentially declared disasters occurring in fiscal year [2015].”

The FY 2015 awards in this Announcement were evaluated for funding based on the criteria in the Notice. These awards are funded from the set-aside in the FY 2015 appropriations. In accordance with Section 102(a)(4)(C) of the Department of Housing and Urban Development Reform Act of 1989 (103 Stat. 1987, 42 U.S.C. 3545), the Department is publishing the names, addresses, and amounts of the 29 awards made under the set aside in Appendix A to this document.

Dated: July 13, 2015.
Lourdes Castro Ramírez,
Principal Deputy Assistant Secretary for Public and Indian Housing.

Appendix A

Capital Fund Emergency Safety and Security Program FY2015 Awards

Name/address of applicant | Amount funded | Project description
Uniontown Housing Authority, P.O. Box 1160, Uniontown, AL 36786 | $178,595 | Security Cameras, Lighting, and Fencing.
Housing Authority of the City of Los Angeles, 2600 Wilshire Boulevard, Los Angeles, CA 90057 | $250,000 | Security Camera System.
Housing Authority of the County of Los Angeles, 700 West Main Street, Alhambra, CA 91801 | $226,272 | Security Cameras and Lighting.
Housing Authority of the City of Oxnard, 435 South D Street, Oxnard, CA 93030 | $250,000 | Security Camera System.
Housing Authority of the City of Norwalk, P.O. Box 508, Norwalk, CT 06856 | $116,454 | Exterior Lighting, Fencing, and Entry Doors.
Housing Authority of the City of Cocoa, 828 Stone Street, Cocoa, FL 32922 | $250,000 | Security Cameras, Lighting, Doors, and Deadbolt Locks.
Northwest Georgia Housing Authority, P.O. Box 1428, Rome, GA 30162 | $247,788 | Security Cameras, Access-Controlled Doors, Alarms, and Entry Doors.
Housing Authority of City of East St. Louis, 700 N. 20th St, East St. Louis, IL 62205 | $250,000 | Security Camera System.
Chicago Housing Authority, 60 E. Van Buren, Chicago, IL 60660 | $248,845 | Security Camera System.
Kokomo Housing Authority, 210 E. Taylor Street, Kokomo, IN 46901 | $222,810 | Security Camera System and Exterior Lighting.
Kansas City, KS Housing Authority, 1124 N. 9th Street, Kansas City, KS 66101 | $250,000 | Security Camera System and a Telephone Entry System.
Louisville Metro Housing Authority, 420 South 8th Street, Louisville, KY 40203 | $250,000 | Locks and Lighting, Replace the Entry System, and Relocate the Security station.
Housing Authority of Richmond, P.O. Box 786, Richmond, KY 40476 | $250,000 | Security Cameras.
Holyoke Housing Authority, 475 Maple Street, Holyoke, MA 01040 | $169,090 | Security Cameras and Lighting.
North Adams Housing Authority, 150 Ashland Street, North Adams, MA 01247 | $250,000 | Security Cameras and Fencing.
Housing Authority of Baltimore City, 417 E. Fayette Street, Baltimore, MD 21202-3431 | $250,000 | Security Cameras and Lighting.
Fort Fairfield Housing Authority, 18 Fields Lane, Fort Fairfield, ME 04742 | $124,797 | Security Camera System, Doors, Locks, Lighting, and Fencing.
Detroit Housing Commission, 1301 E. Jefferson, Detroit, MI 48207 | $227,990 | Security Camera System, Doors, Alarm System, and Security Access System.
Housing Authority of the Town of Carrollton, 107 N. Monroe Street, Carrollton, MO 64633 | $51,996 | Security Cameras, Locks, Lighting, and Fencing.
City of Hickory Public Housing Authority, 841 S. Center Street, Hickory, NC 28602 | $250,000 | Security Cameras.
Rocky Mount Housing Authority, P.O. Box 4717, Rocky Mount, NC 27803 | $218,386 | Security Cameras and Lighting.
Housing Authority of the Town of Morristown, 31 Early Street, Morristown, NJ 07960 | $250,000 | Security Cameras.
New York City Housing Authority, 250 Broadway, New York, NY 10007 | $250,000 | Security Camera System and Security Operations Center.
Catskill Housing Authority, P.O. Box 362, Catskill, NY 12414 | $45,002 | Security Camera System.
Housing Authority of Anthony, P.O. Box 1710, Anthony, TX 79821 | $55,760 | Fencing, Doors, and Lighting.
Austin Housing Authority, 1124 S. IH35, Austin, TX 78704 | $250,000 | Security Camera System, Lighting, and Fencing.
San Antonio Housing Authority, 818 Flores Street, San Antonio, TX 78204 | $250,000 | Lighting, and Fencing.
Housing Authority of Tatum, P.O. Box 1066, Tatum, TX 75691 | $248,930 | Security Cameras, Gates, Fencing, Doors, Lighting, and Security Screens.
Richmond Redevelopment and Housing Authority, 901 Chamberlayne Parkway, Richmond, VA 23220-2309 | $154,000 | Window Bars.

[FR Doc. 2015-17863 Filed 7-20-15; 8:45 am]

BILLING CODE 4210-67-P